DEPARTMENT OF ENERGY

Federal Energy Regulatory Commission

Combined Notice of Filings #1

Take notice that the Commission received the following exempt wholesale generator filings:

Docket Numbers: EG25-349-000.

Applicants: Aggreko MSR Grid PC2 LLC.

Description: Aggreko MSR Grid PC2 LLC submits Notice of Self-Certification of Exempt Wholesale Generator Status.

Filed Date: 6/9/25.

Accession Number: 20250609-5204.

Comment Date: 5 p.m. ET 6/30/25.

Docket Numbers: EG25-350-000.

Applicants: Aggreko MSR Grid PC5 LLC.

Description: Aggreko MSR Grid PC5 LLC submits Notice of Self-Certification of Exempt Wholesale Generator Status.

Filed Date: 6/9/25.

Accession Number: 20250609-5206.

Comment Date: 5 p.m. ET 6/30/25.

Docket Numbers: EG25-351-000.

Applicants: Aggreko MSR Grid PC7 LLC.

Description: Aggreko MSR Grid PC7 LLC submits Notice of Self-Certification of Exempt Wholesale Generator Status.

Filed Date: 6/9/25.

Accession Number: 20250609-5209.

Comment Date: 5 p.m. ET 6/30/25.

Take notice that the Commission received the following electric rate filings:

Docket Numbers: ER23-2426-001.

Applicants: Pattern Energy Management Services LLC.

Description: Compliance filing: Revision to MBR Tariff—Change in Status (ER23-2426-) to be effective 6/11/2025.

Filed Date: 6/10/25.

Accession Number: 20250610-5068.

Comment Date: 5 p.m. ET 7/1/25.

Docket Numbers: ER23-2469-004.

Applicants: Lost Creek Wind, LLC.

Description: Compliance filing: Revision to MBR Tariff—Change in Status (ER23-2469-) to be effective 6/11/2025.

Filed Date: 6/10/25.

Accession Number: 20250610-5065.

Comment Date: 5 p.m. ET 7/1/25.

Docket Numbers: ER25-2094-001.

Applicants: NSTAR Electric Company.

Description: Tariff Amendment: Town of Braintree—Amended Interconnection Agreement to be effective 6/11/2025.

Filed Date: 6/10/25.

Accession Number: 20250610-5077.

Comment Date: 5 p.m. ET 7/1/25.

Docket Numbers: ER25-2464-000.

Applicants: PJM Interconnection, L.L.C.

Description: § 205(d) Rate Filing: Amendment to ISA, SA No. 6955; Queue No. AF1-136 to be effective 8/9/2025.

Filed Date: 6/9/25.

Accession Number: 20250609-5207.

Comment Date: 5 p.m. ET 6/30/25.

Docket Numbers: ER25-2465-000.

Applicants: Roadrunner BESS SF LLC.

Description: § 205(d) Rate Filing: Roadrunner Storage Rate Schedule No. 3, Lease Agreement to be effective 7/1/2025.

Filed Date: 6/10/25.

Accession Number: 20250610-5001.

Comment Date: 5 p.m. ET 7/1/25.

Docket Numbers: ER25-2466-000.

Applicants: PJM Interconnection, L.L.C.

Description: § 205(d) Rate Filing: Amendment to ISA, Service Agreement No. 6380; Queue Nos. AD1-087/AD2-202 to be effective 8/10/2025.

Filed Date: 6/10/25.

Accession Number: 20250610-5021.

Comment Date: 5 p.m. ET 7/1/25.

Docket Numbers: ER25-2467-000.

Applicants: Constellation Energy Generation, LLC.

Description: Constellation Energy Generation, LLC submits request for a limited waiver of capacity market must-offer requirement, including a request for shortened comment period and expedited action.

Filed Date: 6/9/25.

Accession Number: 20250609-5223.

Comment Date: 5 p.m. ET 6/16/25.

Docket Numbers: ER25-2468-000.

Applicants: Southwest Power Pool, Inc.

Description: § 205(d) Rate Filing: 2198R38 Kansas Power Pool NITSA NOA to be effective 6/1/2025.

Filed Date: 6/10/25.

Accession Number: 20250610-5030.

Comment Date: 5 p.m. ET 7/1/25.

Docket Numbers: ER25-2469-000.

Applicants: Roadrunner Solar SF LLC.

Description: § 205(d) Rate Filing: Roadrunner Rate Schedule No. 3. Lease Agreement to be effective 7/1/2025.

Filed Date: 6/10/25.

Accession Number: 20250610-5042.

Comment Date: 5 p.m. ET 7/1/25.

Docket Numbers: ER25-2470-000.

Applicants: Southwest Power Pool, Inc.

Description: § 205(d) Rate Filing: 1313R19 Oklahoma Gas and Electric Company NITSA and NOA to be effective 6/1/2025.

Filed Date: 6/10/25.

Accession Number: 20250610-5051.

Comment Date: 5 p.m. ET 7/1/25.

Docket Numbers: ER25-2471-000.

Applicants: Southwest Power Pool, Inc.

Description: § 205(d) Rate Filing: 1977R22 Nemaha-Marshall Electric Cooperative NITSA and NOA to be effective 9/1/2025.

Filed Date: 6/10/25.

Accession Number: 20250610-5058.

Comment Date: 5 p.m. ET 7/1/25.

Docket Numbers: ER25-2472-000.

Applicants: Southwest Power Pool, Inc.

Description: § 205(d) Rate Filing: 3599R6 Missouri Electric Commission NITSA NOA to be effective 9/1/2025.

Filed Date: 6/10/25.

Accession Number: 20250610-5066.

Comment Date: 5 p.m. ET 7/1/25.

Docket Numbers: ER25-2473-000.

Applicants: PJM Interconnection, L.L.C.

Description: § 205(d) Rate Filing: Amendment to ISA, SA No. 5631; Queue No. AC1-098/AC1-099/AC2-084 to be effective 8/10/2025.

Filed Date: 6/10/25.

Accession Number: 20250610-5071.

Comment Date: 5 p.m. ET 7/1/25.

Docket Numbers: ER25-2474-000.

Applicants: Southwest Power Pool, Inc.

Description: § 205(d) Rate Filing: 4393 RWE Clean Energy Development GIA to be effective 5/15/2025.

Filed Date: 6/10/25.

Accession Number: 20250610-5088.

Comment Date: 5 p.m. ET 7/1/25.

Docket Numbers: ER25-2475-000.

Applicants: Southwest Power Pool, Inc.

Description: § 205(d) Rate Filing: 4414 Evergy KS Central & NextEra Energy Transmission Int Ag to be effective 6/11/2025.

Filed Date: 6/10/25.

Accession Number: 20250610-5094.

Comment Date: 5 p.m. ET 7/1/25.

Docket Numbers: ER25-2476-000.

Applicants: Southwest Power Pool, Inc.

Description: § 205(d) Rate Filing: Revisions to Attachment V for Interim Service to be effective 8/10/2025.

Filed Date: 6/10/25.

Accession Number: 20250610-5095.

Comment Date: 5 p.m. ET 7/1/25.

Docket Numbers: ER25-2477-000.

Applicants: PJM Interconnection, L.L.C.

Description: Tariff Amendment: Notice of Cancellation of SA No. 4823 to be effective 6/1/2025.

Filed Date: 6/10/25.

Accession Number: 20250610-5113.

Comment Date: 5 p.m. ET 7/1/25.

Docket Numbers: ER25-2478-000.

Applicants: PJM Interconnection, L.L.C.

Description: Tariff Amendment: Cancellation of GIA, Service Agreement No. 7505; Project Identifier No. AF2-024 to be effective 8/10/2025.

Filed Date: 6/10/25.

Accession Number: 20250610-5131.

Comment Date: 5 p.m. ET 7/1/25.

Docket Numbers: ER25-2479-000.

Applicants: Midcontinent Independent System Operator, Inc., Duke Energy Indiana, LLC.

Description: § 205(d) Rate Filing: Duke Energy Indiana, LLC submits tariff filing per 35.13(a)(2)(iii: 2025-06-10_Duke Energy Indiana Revisions to Depreciation Rates to be effective 3/1/2025.

Filed Date: 6/10/25.

Accession Number: 20250610-5149.

Comment Date: 5 p.m. ET 7/1/25.

Docket Numbers: ER25-2480-000.

Applicants: Southwest Power Pool, Inc.

Description: § 205(d) Rate Filing: 3313R1 WAPA & Grand Electric Coop Interconnection Agreement to be effective 6/10/2025.

Filed Date: 6/10/25.

Accession Number: 20250610-5160.

Comment Date: 5 p.m. ET 7/1/25.

Docket Numbers: ER25-2481-000.

Applicants: Duke Energy Progress, LLC.

Description: § 205(d) Rate Filing: Administrative Filing for Emergency Energy and Interconnection Agreements to be effective 6/2/2025.

Filed Date: 6/10/25.

Accession Number: 20250610-5167.

Comment Date: 5 p.m. ET 7/1/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: June 10, 2025.
Carlos D. Clay,
Deputy Secretary.

[FR Doc. 2025-10912 Filed 6-13-25; 8:45 am]

BILLING CODE 6717-01-P